DEPARTMENT OF THE INTERIOR

National Park Service

Chesapeake and Ohio Canal National Historical Park Advisory Commission; Notice of Public Meeting

Notice is hereby given in accordance with the Federal Advisory Committee Act that a meeting of the Chesapeake and Ohio Canal National Historical Park Advisory Commission is scheduled for Friday, October 17, 2003, at park headquarters, 1850 Dual Highway, Suite 100, Hagerstown, Maryland. The meeting will begin at 10 a.m.

The Commission was established by Public Law 91-664 to meet and consult with the Secretary of the Interior on general policies and specific matters related to the administration and development of the Chesapeake and Ohio Canal National Historical Park.

The members of the Commission are as follows:

Mrs. Sheila Rabb Weidenfeld, Chairman

Mr. Charles J. Weir

Mr. Barry A. Passett

Mr. Terry W. Hepburn

Ms. Elise B. Heinz

Ms. JoAnn M. Spevacek

Mrs. Mary E. Woodward

Mrs. Donna Printz

Mrs. Ferial S. Bishop

Ms. Nancy C. Long

Mrs. Jo Reynolds

Dr. James H. Gilford

Brother James Kirkpatrick

Topics that will be presented during the meeting will include:

1. Major planning initiatives including the Land Protection Plan.

2. Major construction and development projects.

3. Park operational issues.

The meeting will be open to the public. Any member of the public may file with the Commission a written statement concerning the matters to be discussed. Persons wishing further information concerning this meeting, or who wish to submit written statements, may contact Douglas D. Faris, Superintendent, C&O Canal National Historical Park, 1850 Dual Highway, Suite 100, Hagerstown, Maryland 21740.

Minutes of the meeting will be available for public inspection six (6) weeks after the meeting at park headquarters, Hagerstown, Maryland.

Dated: July 8, 2003.
Doug Faris
Superintendent, C&O Canal National Historical Park.

[FR Doc. 03-23344 Filed 9-12-03; 8:45 am]

BILLING CODE 4310-70-M